DEPARTMENT OF ENERGY

Federal Energy Regulatory Commission

[Project No. 12966-004]

Utah Board of Water Resources; Notice of Comment Period Extension

On December 19, 2018, the Commission issued a letter extending the reply comment period for the proposed Lake Powell Pipeline Project (P-12966-004) to January 18, 2019. Due to the funding lapse at certain federal agencies between December 22, 2018 and January 25, 2019, the Commission is extending the reply comment period until March 11, 2019.

Dated: February 11, 2019.
Kimberly D. Bose,
Secretary.

[FR Doc. 2019-02716 Filed 2-19-19; 8:45 am]

BILLING CODE 6717-01-P